DEPARTMENT OF JUSTICE

Notice of Lodging of Material Modification to Consent Decree Under the Clean Water Act

Pursuant to Department of Justice policy, notice is hereby given that, on March 26, 2010, a proposed First Material Modification to Consent Decree (“First Decree Modification”) in United States and the State of Indiana v. City of Anderson, Indiana, Civil Action No. IP 02-1103 C M/S (S.D. Ind.) was lodged with the United States District Court for the Southern District of Indiana. The original Consent Decree in this matter, entered on September 18, 2002, addressed alleged violations of the Clean Water Act, 33 U.S.C. 1251-1387, and corresponding state law by the City of Anderson (“Anderson”). Among other things, the 2002 Consent Decree required Anderson to develop and implement a Long Term Control Plan to control Combined Sewer Overflows from its combined sewer system. Since entry of the 2002 Consent Decree, Anderson has been developing a Long Term Control Plan in consultation with the U.S. Environmental Protection Agency and the Indiana Department of Environmental Management. The control plan alternative that Anderson selected under that proposed Long Term Control Plan would require an array of sewer system and wastewater treatment plant improvement projects, at an estimated cost of more than $160 million. The First Decree Modification would require Anderson to adhere to a new three-phase Long Term Control Plan implementation schedule: (1) Phase I would be completed by no later than December 31, 2014; (2) Phase II would be completed by no later than December 31, 2019; and (3) Phase III would be completed by no later than December 31, 2029.

The Department of Justice will receive comments relating to the First Decree Modification for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States and the State of Indiana v. City of Anderson, Indiana, Civil Action No. IP 02-1103 C M/S (S.D. Ind.) and D.J. Ref. No. 90-5-2-1-07043/2.

The First Decree Modification may be examined at: (1) The offices of the United States Attorney, 10 West Market Street, Suite 2100, Indianapolis, Indiana; and (2) the offices of the U.S. Environmental Protection Agency, 77 West Jackson Boulevard, 14th Floor, Chicago, Illinois. During the public comment period, the First Decree Modification may also be examined on the following Department of Justice Web site: http://www.usdoj.gov/enrd/Consent_Decrees.html. A copy of the First Decree Modification may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (11 pages at 25 cents per page reproduction cost) payable to the U.S. Treasury.

Maureen M. Katz,
Assistant Chief, Environmental Enforcement Section, Environment and Natural Resources Division.

[FR Doc. 2010-7208 Filed 3-30-10; 8:45 am]

BILLING CODE 4410-15-P